DEPARTMENT OF LABOR

Bureau of Labor Statistics

Business Research Advisory Council; Notice of Meetings and Agenda

The regular Spring meetings of the Business Research Advisory Council and its committees will be held on April 10 and 11, 2002. All of the meetings will be held in the Conference Center of the Postal Square Building, 2 Massachusetts Avenue, NE., Washington, DC.

The Business Research Advisory Council and its committees advise the Bureau of Labor Statistics with respect to technical matters associated with the Bureau's programs. Membership consists of technical officials from American business and industry.

The schedule and agenda for the meetings are as follows:

Wednesday, April 10, 2002—Meeting Rooms 2 & 3

10:00—11:30 a.m.—Committee on Compensation and Working Conditions

1. The Employment Cost Index, how it is constructed, and current issues.

2. Ongoing research into the way benefits data are computed in the Employment Cost Index.

3. Discussion of agenda items for the Fall 2002 meeting.

1:00—2:30 p.m.—Committee on Employment and Unemployment Statistics

1. Current Employment Statistics (CES) seasonal adjustment topics:

a. Research into using concurrent adjustment.

b. Seasonality of the birth/death adjustment.

2. Job Openings and Labor Turnover Survey (JOLTS): progress report and discussion of data reporting issues related to hires and separations.

3. Discussion of agenda items for the Fall 2002 meeting.

3:00—4:30 p.m.—Committee on Employment Projections

1. The impact of NAICS on the 2002-2012 projection cycle.

2. Presentation of the results of the 2000-2010 projection cycle.

3. Discussion of agenda items for the Fall 2002 meeting.

Thursday—April 11, 2002—Meeting Rooms 2 & 3

8:30—10:00 a.m.—Committee on Price Indexes

1. The Committee on National Statistics report on conceptual and measurement issues in the Consumer Price Index.

2. The new Consumer Price Index based on a formula of the Superlative type.

3. Posted Web prices in a product area of the PPI.

4. Discussion of agenda items for the Fall 2002 meeting.

8:30—10:00 a.m.—Committee on Safety and Health Statistics (Concurrent Session, Meeting Room #7)

1. 2000 Survey of Occupational Injuries and Illnesses-Industry Incidence Rates and Numbers of Cases.

2. 2000 Survey of Occupational Injuries and Illnesses-Worker Demographics and Case Circumstances.

3. Survey of Respirator Use and Practices.

4. Status reports on 2001 Survey of Occupational Injuries and Illnesses and 2002 Survey of Occupational Injuries and Illnesses.

5. Injury and Illness Follow-back Surveys.

6. Injuries and Illnesses involving restricted activity only.

7. Budget status.

8. Discussion of agenda items for the Fall 2002 meeting.

10:30 a.m—12:00 p.m.—Council Meeting

1. Commissioner's remarks.

2. Chairperson's remarks.

1:30—3:00 p.m.—Committee on Productivity and Foreign Statistics

1. The impact of alternative measures of non-production and supervisory worker hours on productivity growth.

2. Productivity growth in manufacturing industries characterized by “high tech” workers.

3. Status report on likely new measures for service sector industries.

4. Results from updated comparative labor force series.

5. Discussion of agenda items for the Fall 2002 meeting.

The meetings are open to the public. Persons with disabilities wishing to attend these meetings as observers should contact Tracy A. Jack, Liaison, Business Research Advisory Council, at 202-691-5869, for appropriate accommodations.

Signed at Washington, DC, the 25th day of March 2002.
Deborah P. Klein,
Associate Commissioner for Publications and Special Studies.

[FR Doc. 02-7864 Filed 4-1-02; 8:45 am]

BILLING CODE 4510-24-P